DEPARTMENT OF HEALTH AND HUMAN SERVICES

Health Resources and Services Administration

Agency Information Collection Activities: Submission to OMB for Review and Approval; Public Comment Request; The Division of Independent Review Grant Reviewer Recruitment Form

AGENCY: Health Resources and Services Administration (HRSA), Department of Health and Human Services.

ACTION: Notice.

SUMMARY: In compliance with Section 3507(a)(1)(D) of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than January 3, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: The Division of Independent Review Grant Reviewer Recruitment Form

OMB No. 0915-0295—Extension.

Abstract: HRSA's Division of Independent Review (DIR) is responsible for administering the review of eligible grant applications submitted to HRSA. DIR ensures that the objective review process is independent, efficient, effective, economical, and complies with the applicable statutes, regulations, and policies. Applications are reviewed by subject experts knowledgeable in health and public health disciplines for which support is requested. Review findings are advisory to HRSA programs responsible for making award decisions.

This request continues a web-based data collection system, the Reviewer Recruitment Module (RRM), used to gather critical review participant information. The RRM uses standardized categories of information in drop down menu format for data such as the following: degree, specialty, occupation, work setting, and, in select instances, affiliations with organizations and institutions that serve special populations. Other demographic data may be voluntarily provided by a potential review participant. HRSA maintains a roster of approximately 6,000 qualified individuals who are willing to serve on HRSA objective review committees.

Review participants may also update their information electronically. The RRM is 508 compliant and accessible to the general public using any of the commonly used internet browsers via a link on the HRSA “Grants” internet site or by keying the RRM URL into their browser.

Need and Proposed Use of the Information: HRSA uses the RRM to collect information from individuals who are willing to volunteer as objective review committee participants for the Agency's competitive grant and cooperative agreement funding opportunities. The RRM provides HRSA with an effective search and communication functionality to identify and contact qualified potential grant review participants. Expertise is always the primary determinant in selecting potential review participants for any grant review. No participant is required to provide demographic information to RRM or obligated to participate if invited to serve on an objective review committee.

Likely Respondents: Potential reviewers with expertise and experience consistent with the HRSA mission.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and be able to respond to a collection of information; to search data sources; to complete and review the collection of information; and to transmit or otherwise disclose the information. The total annual burden hours estimated for this ICR are summarized in the table below.

Total Estimated Annualized Burden—Hours
Form name | Number of respondents | Responses per respondent | Total responses | Average burden per response (in hours) | Total burden hours
New review participants | 250 | 1 | 250 | .166 | 42
Updating review participants information | 5,000 | 1 | 5,000 | .333 | 1,665
Total | 5,250 |  | 5,250 |  | 1,707

Jason E. Bennett,
Director, Division of the Executive Secretariat.

[FR Doc. 2016-28835 Filed 11-30-16; 8:45 am]

BILLING CODE 4165-15-P